DEPARTMENT OF JUSTICE

Notice of Intent To Establish an Advisory Committee

AGENCY: U.S. Department of Justice (“DOJ”).

ACTION: Notice of intent to establish an advisory committee.

SUMMARY: The DOJ announces its intent to establish the Anti-Semitism Advisory Committee (“ASAC”). The Attorney General has determined that establishing the ASAC is necessary and in the public interest.

DATES: The ASAC will operate for two years after the filing date of its charter, which will meet the 15-day publication requirement of the Federal Register and may be renewed in accordance with the Federal Advisory Committee Act.

FOR FURTHER INFORMATION CONTACT: Mary Margaret Bush, Designated Federal Officer, Office of the Associate Attorney General, (202) 297-3196 or ASAC.FACA@usdoj.gov.

SUPPLEMENTARY INFORMATION: This notice announces the establishment of the ASAC as a Federal Advisory Committee in accordance with the Federal Advisory Committee Act (Pub. L. 92-463, 5 U.S.C. 1001 et seq.). The ASAC will provide advice and recommendations to the Attorney General and the Department of Justice on efforts to combat anti-Semitism across the United States and promote coordinated, timely, and effective responses to anti-Semitism.

The ASAC's work will support the United States' policy “to combat anti-Semitism vigorously, using all available and appropriate legal tools,” consistent with Executive Orders 13899 and 14188, and further the DOJ's mission to uphold the rule of law, ensure public safety, and protect civil rights.

The ASAC will advise on matters including:

• Protection of Jewish students, faculty, and staff in educational institutions;

• Security of Jewish houses of worship and community centers;

• Prevention of anti-Semitic violence and harassment;

• Support for victims and affected communities;

• Rapid and coordinated responses following anti-Semitic incidents;

• Coordination among federal, state, and local law enforcement;

• Public awareness initiatives; and

• Interagency efforts to address anti-Semitism across various sectors.

The Attorney General shall serve as the ex-officio Chair of the ASAC and shall appoint a Vice Chair or Vice Chairs. The Committee shall be composed of up to fifteen (15) members appointed by the Attorney General and shall serve at the pleasure of the Attorney General. Members appointed to the ASAC shall serve two-year terms. If the term of the ASAC is extended by the Attorney General beyond two years, members may be eligible for reappointment for another two-year term. Members may continue to serve after the expiration of their terms until the appointment of a successor. The ASAC will meet approximately once a quarter, or as needed and approved by the DFO. In coordination with the DFO, the Department may establish subcommittees, task forces, or working groups, as needed, to support the ASAC's work. All subcommittees report to the ASAC, not the Attorney General, in accordance with 41 CFR 102-3.35(b. The DOJ shall provide all necessary services for the ASAC, including financial and administrative support. The ASAC will be supported by the Office of the Associate Attorney General (“OASG”).

Members will serve without compensation, but travel expenses may be allowed, subject to approval of the Designated Federal Officer (“DFO”), including per diem in lieu of subsistence, in accordance with the Federal Travel Regulations and Department policy. The estimated annual costs of operating the ASAC are expected to be $70,000.

Additionally, it is estimated that the equivalent of one (1) full-time government employee will be used to support the ASAC. In accordance with 5 U.S.C. 1009(e) and 41 CFR 102-3.120, the Attorney General will appoint a full-time federal employee to serve as the DFO, who will ensure compliance with all applicable laws and maintain a public-facing website for the ASAC.

The Federal Register notice will be published at least 15 days prior to the charter's filing with Congress. This notice is provided in accordance with the Federal Advisory Committee Act.

Dated: August 13, 2025.
Mary Margaret Bush,
Designated Federal Officer.

[FR Doc. 2025-15608 Filed 8-14-25; 8:45 am]

BILLING CODE P